DEPARTMENT OF THE INTERIOR

Bureau of Land Management

[LLCAC07000 L13100000 EI0000 LXSIGEOT0000]

Notice of Availability of the Draft Environmental Impact Statement and Environmental Impact Report for the Casa Diablo IV Geothermal Development Project, CA

AGENCY: Bureau of Land Management, Interior.

ACTION: Notice of availability.

SUMMARY: In accordance with the National Environmental Policy Act of 1969, as amended (NEPA); the Federal Land Policy and Management Act of 1976, as amended; and the California Environmental Quality Act of 1970 (CEQA); the Bureau of Land Management (BLM) Bishop Field Office, Bishop, California; the United States Forest Service (USFS) Inyo National Forest; and the Great Basin Unified Air Pollution Control District (GBUAPCD) (a California state agency) have prepared a Draft Environmental Impact Statement (EIS)/Environmental Impact Report (EIR) for the proposed Casa Diablo IV Geothermal Development Project near the Town of Mammoth Lakes in Mono County, California. This notice announces the opening of the public comment period.

DATES: To ensure comments will be considered, comments on the Draft EIS/EIR must be received within 60 days following the date the Environmental Protection Agency publishes this Notice of Availability in the Federal Register. The BLM and cooperating agencies will announce future meetings or hearings and any other public involvement activities at least 15 days in advance through public notices, media releases, and/or mailings.

ADDRESSES: Written comments on the Draft EIS/EIR for the Casa Diablo IV Geothermal Development Project may be submitted by any of the following methods:

• Web site: http://www.blm.gov/ca/st/en/fo/bishop.html.

• Email: cabipubcom@ca.blm.gov; Subject: Casa Diablo IV Geothermal Development Project Draft EIS/EIR.

• Fax: 760-872-5050.

• Mail: BLM, Bishop Field Office, 351 Pacu Lane, Suite 100, Bishop, CA 93514; Attn: Casa Diablo IV Geothermal Development Project Draft EIS/EIR, c/o Collin Reinhardt, Project Manager.

Oral comments may be submitted to Margie DeRose via telephone at 760-873-2424 or in person at the Inyo National Forest, Supervisor's Office, 351 Pacu Lane, Suite 200, Bishop, CA 93514. Oral comments may also be submitted at any public meeting that is designed to elicit public comments.

Copies of the Draft EIS/EIR for the Casa Diablo IV Geothermal Development Project are available at the Bishop Field Office at the above address and at the Mono County Library at 400 Sierra Park Road, Mammoth Lakes, California.

FOR FURTHER INFORMATION CONTACT: Collin Reinhardt, Project Manager, telephone 760-872-5024; address 351 Pacu Lane, Suite 100, Bishop, CA 93514; email creinhardt@blm.gov. Persons who use a telecommunications device for the deaf (TDD) may call the Federal Information Relay Service (FIRS) at 1-800-877-8339 to contact the above individual during normal business hours. The FIRS is available 24 hours a day, 7 days a week, to leave a message or question with the above individual. You will receive a reply during normal business hours.

SUPPLEMENTARY INFORMATION: The Draft EIS/EIR analyzes the potential impacts of authorizing the proposed Casa Diablo IV Geothermal Development Project near the Town of Mammoth Lakes in Mono County, California. In accordance with the Geothermal Steam Act of 1970, as amended (30 U.S.C. 1001 et seq.), the BLM Bishop Field Office is the lead Federal agency responsible for permitting the proposed project and for completing the required environmental analysis under NEPA. The USFS Inyo National Forest is a cooperating Federal agency. The GBUAPCD is the lead State agency responsible for permitting the proposed project and for completing the required environmental analysis under the CEQA.

The purpose and need for action is to respond to an application to construct and operate the proposed Casa Diablo IV Geothermal Development Project on Federal geothermal leases administered by the BLM Bishop Field Office. The proposed project would be located on Inyo National Forest lands and adjacent private lands within portions of Federal geothermal leases CACA-11667, CACA-14407, CACA-14408, and CACA-11672. The leases proposed for development are part of an existing geothermal unit, which is currently providing energy sufficient to power three operating geothermal plants.

The applicant's proposed action includes the construction of a new 33-MW binary geothermal power plant, which would be the fourth geothermal plant in the vicinity; up to 16 wells for production and reinjection, drilled to an approximate 1,600- to 2,500-ft depth; and associated pipelines. A 650-ft long transmission line is proposed to interconnect the new power plant to the existing Southern California Edison (SCE) substation at Substation Road. The proposed Casa Diablo IV plant, access roads, well pads, pipelines and transmission line would occupy approximately 80 acres. Of the 16 proposed production/injection well locations, 14 were previously analyzed and approved by the BLM as exploration wells in EA-170-02-15 (2001) and EA-170-05-04 (2005). Three of these exploration wells have already been drilled as of the time of the publication of this notice. The proposed well field contains two existing production wells and associated pipelines that currently serve the three existing power plants in the area. The BLM published a Notice of Intent (NOI) to prepare a joint EIS/EIR on March 25, 2011, in the Federal Register (76 FR 16806). Publication of the NOI initiated a public scoping period, which included two public scoping meetings. Comments received through the scoping process and consultations carried out pursuant to Section 106 of the National Historic Preservation Act and other Federal mandates identified the following issues and concerns that have been incorporated into the Draft EIS/EIR: Potential effects on air quality, biological resources including vegetation and wildlife, cultural resources and Native American concerns, public health and safety, recreation resources, and surface and groundwater resources.

Alternatives identified and evaluated in the Draft EIS/EIR include: Alternative 1, the applicant's proposed action which is outlined above; Alternative 2, which considers an alternative location for the proposed power plant; Alternative 3, which considers alternative pipeline alignments in Basalt Canyon and slightly alters the location of one proposed well; and Alternative 4, the no action alternative which would limit geothermal development activities on the affected leases to those previously authorized by the BLM. In accordance with NEPA (40 CFR 1502.14(e)), the BLM and USFS have identified Alternative 3 as the preferred alternative. The GBUAPCD has also identified Alternative 3 as the “environmentally superior alternative” pursuant to the CEQA (14 C.C.R. 15126.6(e)(2)).

Public comments and information submitted, including names, street addresses, and email addresses of persons who submit comments, will be available for public review at the above address during regular business hours (8 a.m. to 4 p.m.), Monday through Friday, except holidays.

Before including your address, phone number, email address, or other personal identifying information in your comment, you should be aware that your entire comment—including your personal identifying information—may be made publicly available at any time. While you can ask us in your comment to withhold your personal identifying information from public review, we cannot guarantee that we will be able to do so.

Authority: 40 CFR 1506.6, 40 CFR 1506.10.

Bernadette Lovato,
Bishop Field Manager.

[FR Doc. 2012-27768 Filed 11-15-12; 8:45 am]

BILLING CODE 4310-40-P